DEPARTMENT OF HOMELAND SECURITY

Bureau of Citizenship and Immigration Services

Agency Information Collection Activities: Comment Request

ACTION: Notice of 60-Day Information Collection Under Review, OMB Emergency Approval Requested: H-1B Data Collection and Filing Fee Exemption, Form No. I-129W.

The Department of Homeland Security, U.S. Citizenship and Immigration Services (USCIS) has submitted an emergency information collection request (ICR) utilizing emergency review procedures to the Office of Management and Budget (OMB) for review and clearance in accordance with section 1320.13(a)(1)(ii) and (a)(2)(iii) of the Paperwork Reduction Act of 1995. USCIS has determined that it cannot comply with the normal clearance procedures under this part because the normal clearance procedures are likely to prevent or disrupt the collection of information. USCIS is requesting emergency review from OMB of this information collection to ensure compliance with the H-1B Visa Reform Act of 2004. Section 22 of the H-1B Visa Reform Act amends section 214(c)(9) of the Immigration and Nationality Act (INA), and states that the Secretary of the Department of Homeland Security shall impose a fee on an employer filing an H-1B petition on or after December 9, 2004, to initially grant an alien H-1B nonimmigrant classification to extend the stay of an H-1B nonimmigrant for the first time, or to request a change in employers for H-1B nonimmigrant status. Institutions of higher education, or related or affiliated nonprofit entities, and nonprofit or governmental research organizations are exempt from paying the additional fee. Accordingly, USCIS is revising the Form I-129W to reflect the new requirements of the H-1B Visa Reform Act of 2004.

Emergency review and approval of this ICR ensures that the collection instrument is in place by the effective date of the legislation.

If granted, the emergency approval is only valid for 180 days. All comments and/or questions pertaining to this request for emergency approval must be directed to OMB, Office of Information and Regulatory Affairs, 725 17th Street, NW., Suite 10235, Washington, DC 20503; Attention: Desk Officer; 202-395-4718.

During the first 60 days of this period, a regular review of this information collection will also be undertaken. During the regular review period, the USCIS requests and encourages written comments and suggestions from the public and affected agencies concerning this information collection; comments will be accepted until February 14, 2005. During the 60-day regular review, all comments and suggestions, or questions should be directed to Mr. Richard Sloan, Director, Regulatory Management Division, U.S. Citizenship and Immigration Services, 111 Massachusetts Avenue, NW., Washington, DC 20529; 202-616-7598.

Written comments and suggestions from the public and affected agencies concerning the collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic Overview of this information collection:

(1) Type of information collection: Revised information collection.

(2) Title of the form/collection: H-1B Data Collection and Filing Fee Exemption.

(3) Agency form number, if any, the applicable component of the Department of Homeland Security sponsoring the collection: Form I-129W. Office of Policy and Strategy, U.S. Citizenship and Immigration Services.

(4) Affected public who will be asked or required to respond, as well as a brief abstract: Primary: Business or other for-profit. This addendum to the Form I-129 will be used by USCIS to impose a fee on an employer filing an H-1B petition.

(5) An estimate of the total number of respondents and the amount of time estimated for an average respondent to respond: 148,092 responses at 30 minutes (.50 hours) per response.

(6) An estimate of the total public burden (in hours) associated with the collection: 74,046 annual burden hours.

Dated: December 9, 2004.
Richard A. Sloan,
Director, Regulatory Management Division, U.S. Citizenship and Immigration Services, Department of Homeland Security.

[FR Doc. 04-27393 Filed12-14-04; 8:45 am]

BILLING CODE 4410-10-M